DEPARTMENT OF AGRICULTURE

Rural Utilities Service

[Docket No. RUS-24-AGENCY-0036]

Notice of Intent To Adopt a Final Environmental Impact Statement

AGENCY: Rural Utilities Service, USDA.

ACTION: Notice; request for comment.

SUMMARY: Rural Development (RD), a mission area within the United States Department of Agriculture (USDA) announces its intent to adopt the final environmental impact statement (FEIS) titled “Hydropower License, Sweetheart Lake Hydroelectric Project—FERC Project No. 13563-003 Alaska,” under the Environmental Impact Statement (EIS) adoption provisions of the Council on Environmental Quality (CEQ).

DATES: Comment Date: RD will accept comments that are received or postmarked by May 28, 2025.

ADDRESSES: You may submit comments concerning the adoption of the FEIS titled “Hydropower License, Sweetheart Lake Hydroelectric Project—FERC Project No. 13563-003 Alaska,” or submit comments on actions being proposed by RD regarding this matter to the Federal eRulemaking Portal at www.regulations.gov. Follow the online instructions for submitting comments.

The FEIS can be accessed here: https://www.ferc.gov/final-environmental-impact-statement-sweetheart-lake-hydroelectric-project-p-13563-003-issued-may.

FOR FURTHER INFORMATION CONTACT: Russell Japuntich, Environmental Protection Specialist, Environmental and Historic Preservation Division, Rural Utilities Service, 1400 Independence Avenue SW, Mail Stop 1548—Room 4004, Phone (970) 566-1575; Email russell.japuntich@usda.gov.

SUPPLEMENTARY INFORMATION: RD announces its intent to adopt the FEIS titled “Hydropower License, Sweetheart Lake Hydroelectric Project—FERC Project No. 13563-003 Alaska” prepared by the Federal Energy Regulatory Commission's (FERC) under the EIS adoption provisions of the CEQ regulations (40 CFR 1506.3 (2024)). The FEIS was filed by FERC with an Order Issuing Original License on September 8, 2016. RD is deciding whether to provide funding for the same project. RD is proposing this adoption because it has conducted an independent review of the EIS and determined that it meets the standards for an adequate statement according to RD regulations at 7 CFR 1970, Subpart D. RD further determined that its action is substantially the same as that of FERC given that the agencies are both taking action on the same project, thus RD is adopting the EIS as final, consistent with 40 CFR 1506.3 (2024). The FEIS adequately assessed the environmental impacts associated with the hydroelectric project in which RD is deciding whether or not to fund.

Prior to proposing adoption, RD reviewed the FEIS and determined that the analysis performed by FERC in 2016 was still current and sufficient for the actions. RD conducted consultation under Section 106 of the National Historic Preservation Act. RD requested concurrence that the informal consultation conducted by FERC under Section 7 of the Endangered Species Act with U.S. Fish and Wildlife Service and National Marine Fisheries Service was still current and valid. USFWS and NMFS responded that the informal consultation was still current and valid and no new species were added since the initial consultation.

The project would be located on Lower Sweetheart Lake and Sweetheart Creek, within the City and Borough of Juneau, Alaska. The project would occupy 2,058.24 acres of Federal lands within Tongrass National Forest, administered by the USDA, Forest Service. The Forest Service adopted the FEIS with a Record of Decision in September of 2017 and issued the applicant a special use authorization. The project would also occupy 131.18 acres of tideland and submerged lands of the State of Alaska. The proposed project would generate an average of about 116,000 megawatt-hours of energy annually.

The Sweetheart Lake Hydroelectric Project may be funded under the Electric Infrastructure Loan and Loan Guarantee Program. Under the Rural Electrification Act (RE Act) of 1936, as amended, the Secretary of Agriculture is authorized and empowered to make loans to nonprofit cooperatives and others for rural electrification for the purpose of financing the construction and operation of generating plants, electric transmission and distribution lines, or systems for the furnishing and improving of electric service to persons in rural areas (7 U.S.C. 904). A primary function or mission of RUS is to carry out the electric loan program (7 U.S.C. 6942). The project would occupy Federal lands and non-Federal lands. Project features include:

(a) A 280-foot-long, 111-foot-high concrete dam at the existing natural outlet of Lower Sweetheart Lake, with a 125-foot-long ungated overflow spillway;

(b) A 525-foot-long, 10-foot-high, 10-foot-wide arched reservoir outlet tunnel;

(c) A 45-foot-long, 25-foot-wide, 16-foot-high rectangular intake structure, with six 7-foot-diameter, 10-foot-high cylindrical fish screens adjacent to the right dam abutment;

(d) A 9,612-foot-long, 15-foot-wide, 15-foot-high underground power tunnel;

(e) An 896-foot-long, 9-foot diameter steel penstock installed within the lower portion of the power tunnel;

(f) Three 160-foot-long, 7- to 9-foot-diameter buried steel penstocks connecting the lower portion of the power tunnel to the powerhouse;

(g) A 160-foot-long, 60-foot-wide, 30-foot-high concrete and steel powerhouse;

(h) Three 7.1-megawatt (MW) turbines and three 6.6-MW generators;

(i) A 541-foot-long, 30- to 90-foot-wide rock tailrace with a fish exclusion structure;

(j) A 4,400-foot-long coastal road from the powerhouse to a dock/landing site for vehicle access is located on the east shore of Gilbert Bay;

(k) An 8.69-mile-long, 138-kilovolt (kV) transmission line traversing Gilbert Bay, the Snettisham Peninsula, and Port Snettisham, consisting of: (1) two buried segments, totaling 4,800 feet in length (2) two submarine segments, totaling 25,700 feet in length; and (3) one 15,400-foot-long overhead segment;

(l) A 22,000-square-foot fenced switchyard adjacent to the powerhouse;

(m) A 60-foot by 60-foot switchyard at the end of the transmission line on the north shore of Port Snettisham;

(n) A 25-foot-long, 5-foot-wide, 4-foot-deep salmon smolt re-entry pool adjacent to the powerhouse and tailrace;

(o) A 4,225-square-foot caretaker's facility near the dock;

(p) A 4,400-foot-long, 12.47-kV service buried transmission line and communication cable from the powerhouse to the dock and caretaker's facility;

(q) A 10,000-foot-long, 12.47-kV service transmission line and communication cable extending from the powerhouse to the dam site, in conduit inside the power tunnel;

(r) A 400-square-foot shelter at the dam site for employee use during smolt transport facility Operations; and

(s) Appurtenant facilities.

RD requests comments from the public, other agencies, Tribes, and other interested parties on the proposal to adopt the FERC FEIS, and any other associated issues or concerns that RD may need to consider before adopting this action.

Christoper A. McLean,
Acting Administrator, Rural Utilities Service, USDA Rural Development.

[FR Doc. 2025-07207 Filed 4-25-25; 8:45 am]

BILLING CODE 3410-15-P